DEPARTMENT OF COMMERCE

National Oceanic and Atmospheric Administration

RIN 0648-XD460

South Atlantic Fishery Management Council (SAFMC); Public Meetings

AGENCY: National Marine Fisheries Service (NMFS), National Oceanic and Atmospheric Administration (NOAA), Commerce.

ACTION: Notice of public meetings of the South Atlantic Fishery Management Council.

SUMMARY: The South Atlantic Fishery Management Council (Council) will hold meetings of the: Scientific and Statistical Committee (SSC) Committee (CLOSED SESSION); Southeast Data, Assessment and Review (SEDAR) Committee; Advisory Panel Selection Committee; Highly Migratory Species (HMS) Committee; Protected Resources Committee; Golden Crab Committee; Information and Education Committee; Data Collection Committee; Executive Finance Committee; Snapper Grouper Committee; a joint committee meeting of the Dolphin Wahoo Committee and Snapper Grouper Committee; King & Spanish Mackerel Committee; Habitat Committee; Ecosystem-Based Management Committee; and a meeting of the Full Council. The Council will take action as necessary. The Council will also hold an informal public question and answer session regarding agenda items and a formal public comment session. See SUPPLEMENTARY INFORMATION for specific dates and times.

DATES: The meetings will be held from 9 a.m. on Monday, September 15, 2014 until 3:15 p.m. on Friday, September 19, 2014.

ADDRESSES: The meetings will be held at the Charleston Marriott Hotel, 170 Lockwood Boulevard, Charleston, SC 29403; telephone: (800) 968-3569 or (843) 723-3000; fax: (843) 723-0276.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

SSC Selection Committee, Monday, September 15, 2014, 9 a.m. Until 9:30 a.m. (Closed Session)

Review the SSC applications and develop recommendations for appointments/reappointments.

SEDAR Committee, Monday, September 15, 2014, 9:30 a.m. Until 10:30 a.m.

1. SEDAR activities update.

2. Provide guidance to SEDAR Steering Committee members.

Advisory Panel Selection Committee, Monday, September 15, 2014, 10:30 a.m. Until 12 Noon

Discuss the membership structure of the Snapper Grouper Advisory Panel and develop Committee recommendations.

Highly Migratory Species (HMS) Committee, Monday, September 15, 2014, 1:30 p.m. Until 3 p.m.

1. Receive a presentation on Amendment 9 to the 2006 Consolidated HMS Fishery Management Plan.

2. Discuss shark interactions with South Atlantic fisheries and provide guidance to staff.

Protected Resources Committee, Monday, September 15, 2014, 3 p.m. Until 4 p.m.

1. Receive a report on the Final Determination for Coral listing, and update on American Eel status review and an update on Atlantic Sturgeon Stock Status.

2. Discuss the future role and structure of the Committee and take other Committee actions as appropriate.

Golden Crab Committee, Monday, September 15, 2014, 4 p.m. Until 4:30 p.m.

1. Receive an update on the status of commercial catch versus annual catch limit (ACL) for golden crab.

2. Receive a report on public hearing comments and provide guidance to staff.

3. Review and discuss the Generic Accountability Measures and Dolphin Allocation Amendment and revise as appropriate.

Information and Education Committee, Monday, September 15, 2014, 4:30 p.m. Until 5 p.m.

Receive a report from the Information and Education Advisory Panel and a summary of the Council-hosted Science Communication Workshop.

Data Collection Committee, Tuesday, September 16, 2014, 8:30 a.m. Until 11 a.m.

1. Receive an update on the status of the Joint Gulf and South Atlantic Council Generic Dealer Amendment.

2. Review background and receive an update on the status of implementation of the Electronic Technology (Data Collection and Monitoring) Implementation Plan; take Committee action as appropriate.

3. Receive a presentation on the status of work in the Northeast related to bycatch reporting and take Committee action as appropriate.

4. Receive an update on the status of an implementation plan for commercial logbook electronic reporting, provide staff guidance on options, receive a demonstration of the system developed by the Atlantic Coast Cooperative Statistics Program, and receive an update on the status of the Logbook Pilot Program from NOAA Fisheries.

5. Review the Joint South Atlantic and Gulf Council Generic Charterboat Reporting Amendment, receive an overview of the Gulf Council's actions, status, and next steps, a report on the Technical Committee meeting, and take action as appropriate.

Executive Finance Committee, Tuesday, September 16, 2014, 11 a.m. Until 12 noon

1. Receive updates on the status of the Calendar Year 2014 budget expenditures.

2. Address the Council Follow-up and priorities.

3. Receive an update on the Joint South Florida Committee.

4. Receive an overview of proposed Magnuson-Stevens Fishery Conservation and Management Act bills and address other issues as appropriate.

Snapper Grouper Committee, Tuesday, September 16, 2014, 1:30 p.m. Until 5:30 p.m. and Wednesday, September 17, 2014, 8:30 a.m. Until 5:00 p.m.

1. Receive and discuss the status of commercial and recreational catches versus quotas for species under Annual Catch Limits (ACLs) with an update on the 2014 Red Snapper Season. The committee will take action as appropriate.

2. Receive an update on the status of Snapper Grouper amendments under formal Secretarial review.

3. Receive an update on the 2014 golden tilefish commercial longline landings and overages.

4. Discuss preparation and provide staff guidance for the October 2014 Council Visioning Workshop.

5. Review Snapper Grouper Regulatory Amendment 16 relative to removal of the current black sea bass pot seasonal closure, modify the document as appropriate, and provide guidance to staff.

6. Receive an update on Snapper Grouper Amendment 22 addressing the use of tags to track recreational harvest, discuss and provide guidance to staff.

7. Receive an overview of changes to Snapper Grouper Amendment 29 addressing Only Reliable Catch Stocks (ORCS) and management measures for gray triggerfish; modify the amendment as appropriate and make recommendations to approve the amendment for formal Secretarial review.

8. Review public hearing comments for Snapper Grouper Amendment 32 addressing blueline tilefish; modify the amendment as appropriate and provide recommendation to approve for formal Secretarial review.

9. Request an extension of the Emergency Rule for blueline tilefish.

10. Review Snapper Grouper Regulatory Amendment 20 addressing snowy grouper; modify the document as appropriate, and provide recommendation to approve for formal Secretarial review.

11. Receive an overview of public scoping comments received for Snapper Grouper Regulatory Amendment 22 addressing measures for gag and wreckfish, modify the amendment, provide guidance to staff, and recommend approval for public hearings.

12. Review the Snapper Grouper Amendment 36 scoping comments addressing the use of Special Management Zones for protection of spawning areas/aggregations, modify the amendment as appropriate and provide guidance to staff.

13. Review the Snapper Grouper Amendment 35 scoping comments addressing the removal of four species from the Snapper Grouper Management Complex, modify the amendment as appropriate, and provide guidance to staff.

14. Discuss options for the commercial golden tilefish longline endorsement issue and provide guidance to staff.

Note: There will be an informal public question and answer session with the NMFS Regional Administrator and the Council Chairman on Wednesday, September 17, 2014, beginning at 5:30 p.m.

Joint Dolphin Wahoo Committee and Snapper Grouper Committees, Thursday, September 18, 2014, 8:30 a.m. Until 10 a.m.

1. Receive and discuss the status of commercial and recreational catches versus ACLs for dolphin and wahoo.

2. Receive a presentation on Operator Permits from NOAA Fisheries.

3. Review public hearing comments for Dolphin Wahoo Amendment 7 and Snapper Grouper Amendment 33 regarding the issue of transport of fillets from Bahamian waters into United States waters, modify the amendments as appropriate and provide recommendations for approval for formal Secretarial review.

4. Review and discuss the Generic Accountability Measures and Dolphin Allocation Amendment, modify as appropriate, and provide guidance to staff.

King and Spanish Mackerel Committee, Thursday, September 18, 2014, 10 a.m. Until 12 Noon

1. Receive an update on the status of commercial and recreational catches versus ACLs for Atlantic Group king mackerel, Spanish mackerel, and cobia.

2. Receive an update on the status of amendments under Formal Review.

3. Review the public hearing comments received for Coastal Migratory Pelagics (CMP) Framework Amendment 2 addressing Spanish Mackerel trip limits, modify the document as appropriate, and provide recommendations for approval for formal Secretarial review.

4. Receive an overview of a white paper on CMP Amendment 26 addressing separating permits for king mackerel and Spanish mackerel into separate jurisdictions and provide directions to staff.

Habitat Committee, Thursday, September 18, 2014, 1:30 p.m. Until 2:30 p.m.

1. Receive an update on the status of Coral Amendment 8, the Coral grant, the Council's Habitat Policy statements, and take action as appropriate.

Ecosystem-Based Management Committee, Thursday, September 18, 2014, 2:30 p.m. Until 3:30 p.m.

1. Receive an update on the status of work on the Fishery Ecosystem Plan, a presentation on potential projects/collaborations, an update on Ecosystem-Based management activities, and take Committee action as appropriate.

Note: A formal public comment session will be held on Thursday, September 18, 2014, beginning at 4:00 p.m. Public comment will be accepted on the following: Snapper Grouper Amendment 29 (ORCS and gray triggerfish); Snapper Grouper Amendment 32 (blueline tilefish); Snapper Grouper Regulatory Amendment 20 (snowy grouper); Dolphin Wahoo Amendment 7/Snapper Grouper Amendment 33 (fillets from The Bahamas); and Coastal Migratory Pelagics Framework Amendment 2 (Spanish mackerel). Following comment on these amendments, public comment will be accepted regarding any other items on the Council agenda. The amount of time provided to individuals will be determined by the Chairman based on the number of individuals wishing to comment.

Council Session: Friday, September 19, 2014, 8:30 a.m. Until 3:15 p.m.

8:30 a.m.-8:45 a.m.: Call the meeting to order, adopt the agenda, approve the June 2014 minutes, and make presentations.

8:45 a.m.-9:15 a.m.: The Council will receive a report from the Snapper Grouper Committee and is scheduled to either approve or disapprove the following for amendments to the Snapper Grouper Fishery Management Plan for formal Secretarial review: Amendment 29, Amendment 32, and Regulatory Amendment 20. The Council will also consider approving or disapproving Regulatory Amendment 22 for public hearings, consider other Committee recommendations and take action as appropriate.

9:15-9:30 a.m.: The Council will receive a report from the Joint Dolphin Wahoo and Snapper Grouper Committees and approve or disapprove Dolphin Wahoo Amendment 7 and Snapper Grouper Amendment 33 (fillets from The Bahamas) for formal Secretarial review. The Council will consider other Committee recommendations and take action as appropriate.

9:30 a.m.-9:45 a.m.: The Council will receive a report from the King and Spanish Mackerel Committee and is scheduled to approve or disapprove Coastal Migratory Pelagics Framework Amendment 2 for formal submission to the Secretary. The Council will consider Committee recommendations and take action as appropriate.

9:45 a.m.-10 a.m.: The Council will receive a report from the Habitat Committee, consider recommendations and take action as appropriate.

10 a.m.-10:15 a.m.: The Council will receive a report from the Ecosystem-Based Management Committee, consider committee recommendations and take action as appropriate.

10:15 a.m.-10:30 a.m.: The Council will receive a report from the Protected Resources Committee, consider committee recommendations and take action as appropriate.

10:30 a.m.-10:45 a.m.: The Council will receive a report from the SEDAR Committee, consider Committee recommendations and will take action as appropriate.

10:45 a.m.-11 a.m.: The Council will receive a report from the Advisory Panel Selection Committee, consider Committee recommendations, and take action as appropriate.

11 a.m.-11:15 a.m.: The Council will receive a report from the Executive Finance Committee, approve the Council Follow Up and Priorities, take action on the South Florida Management issues as appropriate, and consider Committee recommendations and take action as appropriate.

11:15 a.m.-11:30 a.m.: The Council will receive a report from its Data Collection Committee, consider recommendations and take action as appropriate.

11:30 a.m.-11:45 a.m.: The Council will receive a report from the SSC Selection Committee, consider Committee recommendations and appoint and/or reappoint members to its SSC. The Council will consider other recommendations and take action as appropriate.

11:45 a.m.-12 noon: The Council will receive a report from the HMS Committee, consider Committee recommendations and take action as appropriate.

1:30 p.m.-1:45 p.m.: The Council will receive a report from the Golden Crab Committee, consider Committee recommendations and take action as appropriate.

1:45 p.m.-2 p.m.: The Council will receive a report from the Information and Education Committee, consider Committee recommendations, and take action as appropriate.

2 p.m.-3:15 p.m.: The Council will receive status reports from NOAA Fisheries SERO and the Southeast Fisheries Science Center. The Council will review and develop recommendations on Experimental Fishing Permits as necessary; review agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: August 25, 2014.
William D. Chappell,
Acting Deputy Director, Office of Sustainable Fisheries, National Marine Fisheries Service.

[FR Doc. 2014-20531 Filed 8-28-14; 8:45 am]

BILLING CODE 3510-22-P